DEPARTMENT OF COMMERCE

International Trade Administration

[A-588-845, A-580-834, A-583-831]

Stainless Steel Sheet and Strip in Coils From Japan, the Republic of Korea, and Taiwan: Final Results of Expedited Fourth Sunset Reviews of Antidumping Duty Orders.

AGENCY: Enforcement and Compliance, International Trade Administration, Department of Commerce.

SUMMARY: As a result of these sunset reviews, the U.S. Department of Commerce (Commerce) finds that revocation of the antidumping duty (AD) orders on stainless steel sheet and strip in coils (SSSSC) from Japan, the Republic of Korea (Korea), and Taiwan would be likely to lead to the continuation or recurrence of dumping at the dumping margins identified in the “Final Results of Reviews” section of this notice.

DATES: Applicable December 2, 2022.

FOR FURTHER INFORMATION CONTACT: Andrew Hart, AD/CVD Operations, Enforcement and Compliance, International Trade Administration, U.S. Department of Commerce, 1401 Constitution Avenue NW, Washington, DC 20230; telephone: (202) 482-1058.

SUPPLEMENTARY INFORMATION:

Background

On September 1, 2022, Commerce published the notice of initiation of the fourth sunset reviews of the AD orders on SSSSC from Japan, Korea, and Taiwan ¹ pursuant to section 751(c) of the Tariff Act of 1930, as amended (the Act).² On September 15, 2022, Cleveland-Cliffs Inc., North American Stainless, and Outokumpu Stainless USA, LLC (collectively, the domestic interested parties), notified Commerce of their intent to participate within the 15-day period specified in 19 CFR 351.218(d)(1)(i).³ The domestic interested parties claimed interested party status under section 771(9)(C) of the Act as producers of the domestic like product in the United States.

¹ See Notice of Antidumping Duty Order: Stainless Steel Sheet and Strip in Coils from United Kingdom, Taiwan, and South Korea, 64 FR 40555 (July 27, 1999); and Notice of Amended Final Determination of Sales at Less Than Fair Value and Antidumping Duty Order: Stainless Steel Sheet and Strip in Coils from Japan, 64 FR 40565 (July 27, 1999) (collectively, Orders).

² See Initiation of Five-Year (Sunset) Reviews, 87 FR 53727 (September 1, 2022) (Notice of Initiation).

³ See Domestic Interested Parties' Letter, “Domestic Interested Parties' Notice of Intent to Participate,” dated September 15, 2022 (Japan); see also Domestic Interested Parties' Letter, “Domestic Interested Parties' Notice of Intent to Participate,” dated September 15, 2022 (Korea); and Domestic Interested Parties' Letter, “Domestic Interested Parties' Notice of Intent to Participate,” dated September 15, 2022 (Taiwan).

On September 30, 2022, Commerce received complete substantive responses to the Notice of Initiation with respect to each of the Orders from the domestic interested parties within the 30-day period specified in 19 CFR 351.218(d)(3)(i).⁴ Commerce received no substantive responses from respondent interested parties. As a result, pursuant to section 751(c)(3)(B) of the Act and 19 CFR 351.218(e)(1)(ii)(C)(2), Commerce conducted expedited (120-day) sunset reviews of the Orders.

⁴ See Domestic Interested Parties' Letter, “Domestic Interested Parties' Substantive Response to Notice of Initiation,” dated September 30, 2022 (Japan); see also Domestic Interested Parties' Letter, “Domestic Interested Parties' Substantive Response to Notice of Initiation,” dated September 30, 2022 (Korea); and Domestic Interested Parties' Letter, “Domestic Interested Parties' Substantive Response to Notice of Initiation,” dated September 30, 2022 (Taiwan).

Scope of the Orders

The scope of the Orders is stainless steel sheet and strip in coils from Japan, Korea, and Taiwan. The merchandise subject to the Orders is classified in the Harmonized Tariff Schedule of the United States (HTS) at subheadings: 7219.13.00.31, 7219.13.00.51, 7219.13.00.71, 7219.13.00.81, 7219.14.00.30, 7219.14.00.65, 7219.14.00.90, 7219.32.00.05, 7219.32.00.20, 7219.32.00.25, 7219.32.00.35, 7219.32.00.36, 7219.32.00.38, 7219.32.00.42, 7219.32.00.44, 7219.33.00.05, 7219.33.00.20, 7219.33.00.25, 7219.33.00.35, 7219.33.00.36, 7219.33.00.38, 7219.33.00.42, 7219.33.00.44, 7219.34.00.05, 7219.34.00.20, 7219.34.00.25, 7219.34.00.30, 7219.34.00.35, 7219.35.00.05, 7219.35.00.15, 7219.35.00.30, 7219.35.00.35, 7219.90.00.10, 7219.90.00.20, 7219.90.00.25, 7219.90.00.60, 7219.90.00.80, 7220.12.10.00, 7220.12.50.00, 7220.20.10.10, 7220.20.10.15, 7220.20.10.60, 7220.20.10.80, 7220.20.60.05, 7220.20.60.10, 7220.20.60.15, 7220.20.60.60, 7220.20.60.80, 7220.20.70.05, 7220.20.70.10, 7220.20.70.15, 7220.20.70.60, 7220.20.70.80, 7220.20.80.00, 7220.20.90.30, 7220.20.90.60, 7220.90.00.10, 7220.90.00.15, 7220.90.00.60, and 7220.90.00.80. Although the HTS subheadings are provided for convenience and customs purposes, the written product description remains dispositive.

For a full description of the scope of the Orders, see the Issues and Decision Memorandum.⁵

⁵ See Memorandum, “Issues and Decision Memorandum for the Final Results of the Expedited Fourth Sunset Reviews of the Antidumping Duty Orders on Stainless Steel Sheet and Strip in Coils from Japan, the Republic of Korea, and Taiwan,” dated concurrently with, and hereby adopted by, this notice (Issues and Decision Memorandum).

Analysis of Comments Received

A complete discussion of all issues raised in these sunset reviews is provided in the Issues and Decision Memorandum, including the likelihood of the continuation or recurrence of dumping and the magnitude of the margins of dumping likely to prevail if the Orders were revoked. The Issues and Decision Memorandum is a public document and is on file electronically via Enforcement and Compliance's Antidumping and Countervailing Duty Centralized Electronic Service System (ACCESS). ACCESS is available to registered users at http://access.trade.gov. In addition, a complete version of the Issues and Decision Memorandum can be accessed at http://access.trade.gov/public/FRNoticesListLayout.aspx.

Final Results of the Sunset Reviews

Pursuant to sections 751(c)(1) and 752(c)(1) and (3) of the Act, Commerce determines that revocation of the Orders would likely lead to the continuation or recurrence of dumping and that the magnitude of the dumping margins likely to prevail would be up to 57.87 percent for Japan, 58.79 percent for Korea, and 21.10 percent for Taiwan.

Notification Regarding Administrative Protective Orders

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these results in accordance with sections 751(c), 752(c), and 777(i)(1) of the Act, and 19 CFR 351.221(c)(5)(ii).

Dated: November 23, 2022.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely to Prevail

VII. Final Results of Sunset Reviews

VIII. Recommendation

[FR Doc. 2022-26241 Filed 12-1-22; 8:45 am]

BILLING CODE 3510-DS-P